Proclamation 7380 of November 17, 2000

National Family Week, 2000

By the President of the United States of America

A Proclamation

Our families are perhaps the strongest influence in our lives. Anyone who grows up in a strong, nurturing family, grounded in the values of love and responsibility, will have a distinct advantage in achieving the most important tasks of adulthood—living fully, working productively, contributing to society, and forming one's own strong, stable family.

Our Nation, too, draws its strength and character from America's families, so as citizens we must do everything we can to support their well-being and self-sufficiency. Over the past 8 years, my Administration has strived to create an economic and social climate where families can flourish. We have strengthened the economy; enacted a higher minimum wage; expanded tax credits for working families; created greater access to higher education, quality health care, and affordable child care; and, with passage of the Family and Medical Leave Act, made it easier for working adults to take leave to care for an ailing family member without putting their jobs at risk. We have also been successful in moving thousands of children from temporary homes in foster care to permanent families where they can grow and flourish.

We are fortunate to be members of a larger family as well, composed not only of our immediate relatives, but also of our neighbors, colleagues, communities, and fellow citizens. As members of this extended family, we must learn to appreciate the value and diversity of other families' traditions; we must reach out to help those families who are still in need; and we must share responsibility for the care and development of all our Nation's children. In this season of Thanksgiving, let us be grateful for the knowledge that America is a Nation of families, standing together to make our country a better place in which to live and to make the future a brighter one for our children.

NOW, THEREFORE, I, WILLIAM J. CLINTON, President of the United States of America, by virtue of the authority vested in me by the Constitution and the laws of the United States, do hereby proclaim November 19 through November 25, 2000, as National Family Week. I call upon Federal, State, and local officials to honor American families with appropriate programs and activities. I encourage educators, community organizations, and religious leaders to celebrate the strength and values we draw from family relationships, and I urge all the people of the United States to reaffirm their own family ties and to reach out to other families in friendship and goodwill.

IN WITNESS WHEREOF, I have hereunto set my hand this seventeenth day of November, in the year of our Lord two thousand, and of the Independence of the United States of America the two hundred and twenty-fifth.

wj

[FR Doc. 00-30022

Filed 11-21-00; 8:45 am]

Billing code 3195-01-P